DEPARTMENT OF COMMERCE

International Trade Administration

[A-201-836]

Light-Walled Rectangular Pipe and Tube from Mexico: Partial Rescission of Antidumping Duty Administrative Review: 2019-2020

AGENCY: Enforcement and Compliance, International Trade Administration, Department of Commerce

SUMMARY: The Department of Commerce (Commerce) is rescinding the administrative review, in part, of the antidumping duty order on light-walled rectangular pipe and tube (LWRPT) from Mexico for the period of review August 1, 2019, through July 31, 2020, based on timely withdrawals of the requests for review.

DATES: Applicable January 19, 2021.

FOR FURTHER INFORMATION CONTACT: Kyle Clahane, AD/CVD Operations, Office III, Enforcement and Compliance, International Trade Administration, Department of Commerce, 1401 Constitution Avenue NW, Washington, DC 20230; telephone: (202) 482-5449.

SUPPLEMENTARY INFORMATION:

Background

On August 4, 2020, Commerce published a notice of opportunity to request an administrative review of the antidumping duty order on LWRPT from Mexico for the period of review August 1, 2019, through July 31, 2020.¹ On August 28, 2020, Regiomontana de Perfiles y Tubos S. de R.L. de C.V. (Regiopytsa) filed a timely request for a review of itself.² On August, 31, 2020, Nucor Tubular Products Inc. (Nucor Tubular), a domestic producer, filed a timely request for review with respect to 19 companies.³ Maquilacero S.A. de C.V. (Maquilacero),⁴ and Perfiles LM, S.A. de C.V. (Perfiles),⁵ timely requested reviews of themselves. Based on these requests, on October 6, 2020, in accordance with section 751(a) of the Tariff Act of 1930, as amended (the Act), and 19 CFR 351.221(c)(1)(i), Commerce published in the Federal Register a notice of initiation of an administrative review of the antidumping duty order on LWRPT from Mexico covering the period August 1, 2019 through July 31, 2020.⁶

¹ See Antidumping or Countervailing Duty Order, Finding, or Suspended Investigation; Opportunity to Request Administrative Review, 85 FR 47167 (August 4, 2020).

² See Regiopytsa's Letter, “Light-Walled Rectangular Pipe and Tube from Mexico, Request for Review,” dated August 28, 2020.

³ See Nucor Tubular's Letter, “Light-Walled Rectangular Pipe and Tube from Mexico: Request for Administrative Review,” dated August 31, 2020; see also Nucor Tubular's Letter, “Light-Walled Rectangular Pipe and Tube from Mexico: Clarification of Request for Administrative Review,” dated September 23, 2020. Nucor Tubular consolidated its request for review of Hylsa S.A. de C.V. (Hysla) and Ternium Mexico S.A. de C.V. (Ternium), into a request for review of Ternium, the successor-in-interest to Hylsa.

⁴ See Maquilacero's Letter, “Light-Walled Rectangular Pipe and Tube from Mexico; Maquilacero S.A. de C.V.'s Request for Administrative Review,” dated August 31, 2020.

⁵ See Perfiles' Letter, “Light-Walled Rectangular Pipe and Tube from Mexico—Request for Administrative Review,” dated August 31, 2020.

⁶ See Initiation of Antidumping and Countervailing Duty Administrative Reviews, 85 FR 63081 (October 6, 2020) (Initiation Notice).

On January 4, 2021, Nucor Tubular withdrew its request for administrative review with respect to Aceros Cuatro Caminos S.A. de C.V.; Arco Metal S.A. de C.V.; Fabricaciones y Servicios de Mexico; Galvak, S.A. de C.V.; Grupo Estructuras y Perfiles, Industrias Monterrey S.A. de C.V.; Internacional de Aceros, S.A. de C.V.; PEASA-Productos Especializados de Acero; Talleres Acero Rey S.A. de C.V.; Tuberias Aspe S.A de C.V.; Tuberia Laguna, S.A. de C.V.; and Tuberias y Derivados S.A. de C.V.⁷

⁷ See Nucor Tubular's Letter, “Light-Walled Rectangular Pipe and Tube from Mexico: Partial Withdrawal of Request for Administrative Review,” dated January 4, 2020.

Partial Rescission of Review

Pursuant to 19 CFR 351.213(d)(1), Commerce will rescind an administrative review, in whole or in part, if the party that requested the review withdraws its request within 90 days of the publication date of the notice of initiation of the requested review.

Because Nucor Tubular's request for review, for 12 companies, was withdrawn within the 90-day deadline, and no other interested party requested a review of these 12 companies, we are rescinding this review with respect to these 12 companies. The administrative review remains active with respect to the seven remaining companies for which a review was initiated, i.e., Maquilacero S.A. de C.V.; Nacional de Acero S.A. de C.V.; Perfiles LM, S.A. de C.V.; Productos Laminados de Monterrey S.A. de C.V.; Regiomontana de Perfiles y Tubos S.A. de C.V.; Regiomontana de Perfiles y Tubos S. de R.L. de C.V.; and Ternium Mexico S.A. de C.V.⁸

⁸ See Initiation Notice.

Assessment

Commerce will instruct U.S. Customs and Border Protection (CBP) to assess antidumping duties on all appropriate entries of LWRPT from Mexico at a rate equal to the cash deposit rate of estimated antidumping duties required at the time of entry, or withdrawal from warehouse, for consumption, during the period August 1, 2019 through July 31, 2020, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as the only reminder to all parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: January 12, 2021.
James Maeder,
Deputy Assistant Secretary for Antidumping and Countervailing Duty Operations.

[FR Doc. 2021-01015 Filed 1-15-21; 8:45 am]

BILLING CODE 3510-DS-P